DEPARTMENT OF HEALTH AND HUMAN SERVICES

Office of the Secretary

[Document Identifier HHS-OS-0990-0390-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for extending the use of the approved information collection assigned OMB control number 0990-0390, scheduled to expire on 02/28/2015. Comments submitted during the first public review of this ICR will be provided to OMB. OMB will accept further comments from the public on this ICR during the review and approval period.

DATES: Comments on the ICR must be received on or before March 12, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the document identifier HHS-OS-0990-0390-30D for reference.

Information Collection Request Title: Challenge and Prize Competition Solicitations

Abstract: In 2011, Federal agencies including HHS were given prize authority for administering challenges and competitions. Challenges and competitions enable the Assistant Secretary for Administration, HHS to tap into the expertise and creativity of the public in new ways. In order for HHS to quickly and effectively launch competitions on a continual basis, HHS seeks an extension on currently approved generic clearance to collect information for these challenges and competitions, which will generally include first name, last name, email, city, state and when applicable other demographic information.

The information collected will be used to understand whether the participant has met the technical requirements for the challenge, assist in the technical review and judging of the solutions that are provided, and understand the impact and consequences of administering the competition and developing solutions for submission. Information may be collected during the competition or after its completion.

Need and Proposed Use of the Information

Challenges and competitions enable HHS to tap into the expertise and creativity of the public in new ways. HHS has sponsored challenges and competitions in a wide variety of areas such as recruitment efforts, health data applications and other types of data, development of novel technologies, and communications to increase public participation and solicit new ideas on a wide array of topics important to the agencies mission. HHS's goal is to engage a broader number of stakeholders who are inspired to work on some of our most pressing health issues, thus supporting a new ecosystem of scientists, developers, and entrepreneurs who can continue to innovate for public health. The generic clearance is necessary for HHS to quickly and effectively launch competitions on a continual basis.

Likely Respondents: Likely respondents include individuals, businesses, and state and local governments who choose to participate in a challenge or competition hosted by HHS.

Total Estimated Annualized Burden—Hours
Form name | Number of respondents | Number of responses per respondent | Average burden per response (in hours) | Total burden hours
Individuals or Households | 1000 | 1 | 1/6 | 166.6
Organizations | 1000 | 1 | 1/6 | 166.6
Businesses | 1000 | 1 | 1/6 | 166.6
State, territory, tribal or local governments | 60 | 1 | 1/6 | 10
Total |  |  |  | 510

Darius Taylor,
Information Collection Clearance Officer.

[FR Doc. 2015-02652 Filed 2-9-15; 8:45 am]

BILLING CODE 4150-04-P